DEPARTMENT OF LABOR

Occupational Safety and Health Administration

[Docket No. OSHA-2008-0043]

Addenda to the Memorandum of Understanding: To Formalize the Working Relationship Between the Department of Energy and the Department of Labor

AGENCY: The Department of Labor; Occupational Safety and Health Administration (OSHA).

ACTION: Addenda to Memorandum of Understanding between the Department of Labor and the Department of Energy: (1) the construction of the Theory and Computing Sciences (TCS) building at the Argonne National Laboratory in Illinois; transfer of employee safety and health authority from the Department of Energy (DOE) to the Occupational Safety and Heath Administration (OSHA); (2) the operations of six existing buildings and support facilities at the East Tennessee Technology Park in Oak Ridge, Tennessee; transfer of employee safety and health authority from DOE to the Tennessee Occupational Safety and Health Administration.

SUMMARY: This document is a notice of addenda to the August 28, 1992 interagency Memorandum of Understanding (MOU) between the U.S. Department of Labor and the U.S. Department of Energy. That MOU states that DOE has exclusive authority over the occupational safety and health of contractor employees at DOE Government-Owned and Contractor-Operated facilities (GOCOs). In addition, the MOU between the departments dated July 25, 2000, on safety and health enforcement at privatized facilities and operations provides that OSHA has regulatory authority over occupational safety and health at certain privatized facilities and operations on DOE land leased to private enterprises. This action is taken in accordance with the MOU of July 25, 2000, which establishes specific interagency procedures for the transfer of occupational safety and health coverage for such privatized facilities and operations from DOE to OSHA and state agencies acting under state plans approved by OSHA pursuant to section 18 of the Occupational Safety and Health Act of 1970 (OSH Act), 29 U.S.C. 667. The MOUs may be found on the internet via the OSHA Web page http://www.osha.gov under the “D” for Department of Energy Transition Activities.

DATES: The effective date for the publication of this notice January 2, 2009.

FOR FURTHER INFORMATION: Contact Ms. MaryAnn Garrahan, Office of Technical Programs and Coordination Activities, Room N-3655, OSHA, U.S. Department of Labor, 200 Constitution Avenue, NW., Washington, DC 20210. Telephone (202) 693-2110; fax (202-693-1644). Access electronic copies of this notice at OSHA's Web site, http://www.osha.gov, by selecting Federal Register, “Date of Publication,” and then “2008.”

SUPPLEMENTARY INFORMATION: The U.S. Department of Energy (DOE) and the Occupational Safety and Health Administration (OSHA) of the U.S. Department of Labor (DOL) entered into a Memorandum of Understanding (MOU) on August 10, 1992, delineating regulatory authority over the occupational safety and health of contractor employees at DOE government-owned or leased, contractor-operated (GOCO) facilities. In general, the memorandum of understanding recognizes that DOE exercises statutory authority under section 161(f) of the Atomic Energy Act of 1954, as amended, [42 U.S.C. 2201(f)], relating to the occupational safety and health of private-sector employees at these facilities.

Section 4(b)(1) of the Occupational Safety and Health Act of 1970, 29 U.S.C. 653(b)(1), exempts from OSHA authority working conditions with respect to which other federal agencies have exercised statutory authority to prescribe or enforce standards or regulations affecting occupational safety or health. The 1992 MOU acknowledges DOE's extensive regulation of contractor health and safety which requires contractor compliance with all OSHA standards as well as additional requirements prescribed by DOE, and concludes with an agreement by the agencies that the provisions of the Occupational Safety and Health Act will not apply to GOCO sites for which DOE has exercised its authority to regulate occupational safety and health under the Atomic Energy Act.

In light of DOE's policy emphasis on privatization activities, OSHA and DOE entered into a second Memorandum of Understanding on July 25, 2000; that establishes interagency procedures to address regulatory authority for occupational safety and health at specified privatized facilities and operations on DOE sites. The 2000 Memorandum of Understanding specifically covers facilities and operations on lands that have been leased to private enterprises, which are not conducting activities for or on behalf of DOE, and where there is no likelihood that any employee exposure to radiation from DOE sources would be 25 millirems per year (mrem/yr) or more.

In a letter dated February 27, 2007, DOE requested that OSHA accept occupational safety and health regulatory authority at two locations pursuant to the MOU on Safety and Health Enforcement at Privatized Facilities and Operations, dated July 25, 2000. The request was for OSHA to accept regulatory oversight for the construction phase of the Theory and Computing Sciences (TCS) building at the Argonne National Laboratory in Illinois, as well as the transfer of oversight for six existing buildings and support facilities at the East Tennessee Technology Park (ETTP) in Oak Ridge, Tennessee.

OSHA's Regional Office in Chicago, IL, working with OSHA's Aurora Area Office, determined that OSHA should accept authority for the construction phase of the Theory and Computing Sciences (TCS) building at the Argonne National Laboratory in Illinois. The Aurora Area Office has been in contact with the DOE, as well as with the general contractor, regarding the construction phase of the project. These offices are satisfied with DOE assurances that (1) this facility is operationally independent of DOE activities during the construction phase, (2) there is no likelihood that any employee exposure to radiation will be 25 millirems per year (mrem /yr) or more, and (3) the transfer of authority to OSHA is free from regulatory gaps, and does not diminish the safety and health protection of the employees. OSHA, therefore, accepted health and safety regulatory authority for the construction phase of the TCS building. When construction of the TCS is complete, DOE will contact OSHA to inform it of the type of work to be performed at the completed TCS.

OSHA's Regional Office in Atlanta, GA, working with the OSHA Nashville Area Office, and the Tennessee Occupational Safety and Health Administration (TOSHA), determined that TOSHA is willing to accept authority for the six existing buildings and support facilities at the East Tennessee Technology Park in Oak Ridge, Tennessee that were transferred by deed to the Community Reuse Organization of East Tennessee (CROET). TOSHA is satisfied with DOE assurances that (1) there is no likelihood that any employee at these facilities will be exposed to radiation levels that will be 25 millirems per year (mrem/yr) or more, and (2) transfer of authority to TOSHA is free from regulatory gaps, and does not diminish the safety and health protection of the employees. Therefore, TOSHA accepted and maintains health and safety regulatory authority over buildings K-1007, K-1225, K-1330, K-1400, K-1580, K-1007A, and K-1036. Accordingly, after reviewing pertinent information, OSHA and TOSHA, in a letter to DOE dated December 18, 2007, agreed to accept regulatory authority for occupational safety and health over these sites.

This Federal Register notice provides public notice and serves as an addendum to the 1992 OSHA/DOE MOU. This document was prepared under the direction of Thomas M. Stohler, Acting Assistant Secretary of Labor for Occupational Safety and Health, 200 Constitution Avenue, NW., Washington, DC 20210. This action is taken pursuant to section 8(g) of the Occupational Safety and Health Act of 1970 (29 U.S.C. 657(g)) and Secretary of Labor's Order No. 5-2007 (72 FR 31159).

Signed at Washington, DC, December 15, 2008.
Thomas M. Stohler,
Acting Assistant Secretary of Labor for Occupational Safety and Health.

[FR Doc. E8-31135 Filed 12-31-08; 8:45 am]

BILLING CODE 4510-26-P